DEPARTMENT OF TRANSPORTATION

National Highway Traffic Safety Administration

[Docket No. NHTSA-2016-0142; Notice 2]

Hyundai Motor America, Grant of Petition for Decision of Inconsequential Noncompliance

AGENCY: National Highway Traffic Safety Administration (NHTSA), Department of Transportation (DOT).

ACTION: Grant of petition.

SUMMARY: Hyundai Motor America (Hyundai) has determined that certain model year (MY) 2012-2016 Hyundai Accent motor vehicles do not fully comply with Federal Motor Vehicle Safety Standard (FMVSS) No. 208, Occupant Crash Protection. Hyundai filed a noncompliance report dated December 12, 2016. Hyundai also petitioned NHTSA on December 16, 2016, for a decision that the subject noncompliance is inconsequential as it relates to motor vehicle safety. This document announces the grant of Hyundai's petition.

FOR FURTHER INFORMATION CONTACT: James A. Jones, Office of Vehicle Safety Compliance, NHTSA, telephone (202) 366-5294, facsimile (202) 366-5930.

SUPPLEMENTARY INFORMATION:

I. Overview

Hyundai has determined that certain MY 2012-2016 Hyundai Accent motor vehicles do not fully comply with paragraph S4.1.5.5.2 of FMVSS No. 208, Occupant Crash Protection (49 CFR 571.208). Hyundai filed a noncompliance information report dated December 12, 2016, pursuant to 49 CFR part 573, Defect and Noncompliance Responsibility and Reports. Hyundai also petitioned NHTSA on December 16, 2016, pursuant to 49 U.S.C. 30118(d) and 30120(h) and 49 CFR part 556, for an exemption from the notification and remedy requirements of 49 U.S.C. Chapter 301 on the basis that this noncompliance is inconsequential as it relates to motor vehicle safety.

Notice of receipt of Hyundai's petition was published, with a 30-day public comment period, on April 7, 2017, in the Federal Register (82 FR 17072). No comments were received. To view the petition and all supporting documents log onto the Federal Docket Management Systems (FDMS) website at: http://www.regulations.gov/. Then follow the online search instructions to locate docket number “NHTSA-2016-0142.”

II. Vehicles Involved

Approximately 6,445 MY 2012-2016 Hyundai Accent motor vehicles manufactured between May 19, 2011, and July 7, 2016, are potentially involved. The affected vehicles are those equipped with a non-folding rear seat back and sold in the Puerto Rico and Guam markets.

III. Noncompliance

Hyundai explains that the noncompliance is that the affected vehicles are equipped with a non-folding rear seat back and a center rear seat belt incorporating a release mechanism that detaches both the lap and shoulder portion at the lower anchorage point and therefore do not meet the requirements of paragraph S4.1.5.5.2 of FMVSS No. 208. Under FMVSS No. 208, a detachable seat belt in the middle seat is allowed only in vehicles with a folding rear seat.

IV. Rule Requirements

Paragraph S4.1.5.5.2 of FMVSS No. 208 includes the requirements relevant to this petition. Any inboard designated seating position on a seat for which the entire seat back can be folded (including the head restraints and any other part of the vehicle attached to the seat back) such that no part of the seat back extends above a horizontal plane located 250 mm above the highest SRP located on the seat may meet the requirements of paragraph S4.1.5.5.1 by use of a belt incorporating a release mechanism that detaches both the lap and shoulder portion at either the upper or lower anchorage point, but not both. The means of detachment shall be a key or key-like object.

V. Summary of Hyundai's Petition

Hyundai described the subject noncompliance and stated its belief that the noncompliance is inconsequential as it relates to motor vehicle safety.

In support of its petition, Hyundai submitted the following reasoning:

1. The affected vehicles are equipped with a non-folding rear seat back and a center rear seat belt incorporating a release mechanism that detaches both the lap and shoulder portion at the lower anchorage point to allow improved assembly line procedures.

2. Hyundai first became aware of the possibility that the center rear seat belts of the subject vehicles may not comply with S4.1.5.5.2 of FMVSS No. 208 as a result of internal “port inspections” of certain model year 2016 Hyundai Accent vehicles. A subsequent investigation revealed previous model year “RB” platform Accent vehicles are similarly affected.

3. Hyundai pointed out that 5-door and 4-door Hyundai Accent vehicles equipped with rear folding seats are not affected.

4. The Accent vehicles in question fully comply with FMVSS No. 208 and FMVSS No. 209 requirements with the sole exception that the lap and shoulder portion of the rear center seat belt may be detached from the lower anchorage by use of a tool, such as a key or key-like object.

5. Hyundai states that if the rear seat back of the subject vehicles were capable of being folded (which Hyundai claims would have no effect on seat belt performance) the detachable aspect would not result in a compliance issue.

6. The Owner's Manual in the subject vehicles contains relevant information and illustrations to fasten, unfasten, and disconnect the rear center belt.

7. Hyundai states that it is clear from the intended difficulty in detaching the seat belt and the instructions contained in the Owner's Manual that the seat belt should not be detached. Further, in the Accent with a fixed rear seat back, there is no advantage or reason for the owner to detach the center rear seat belt from the lower anchorage.

8. Hyundai does not believe that it is appropriate to conduct a recall campaign to replace the center rear seat belts in vehicles that have been delivered to customers.

9. Hyundai stated that they are not aware of any accidents or injuries related to the subject noncompliance.

Hyundai concluded by expressing the belief that the subject noncompliance is inconsequential as it relates to motor vehicle safety, and that its petition to be exempted from providing notification of the noncompliance, as required by 49 U.S.C. 30118, and a remedy for the noncompliance, as required by 49 U.S.C. 30120, should be granted.

VI. NHTSA's Analysis

Anton's Law (Public Law 107-318) directed NHTSA to mandate 3-point belts (i.e., Type 2 integral lap/shoulder belts) at each rear seating position, including center rear seat positions, in new passenger motor vehicles by September 1, 2007. To accomplish the mandate, NHTSA issued a final rule on December 8, 2004, amending applicable parts of Federal motor vehicle safety standard (FMVSS) No. 208, Occupant Crash Protection [69 FR 70904].

Prior to issuance of the final rule, FMVSS No. 208 allowed the installation of detachable shoulder belts on 3-point belts in swivel seats and outboard rear seats that are removable. In comments to the proposed final rule, vehicle manufacturers requested that the Agency extend the allowance for detachable belts to center rear seat positions of folding rear seats to ensure effective use of cargo carrying space. The Agency agreed.

Many vehicle manufacturers were already using detachable belts with “mini-buckle” designs that permit the entire belt to detach from the seat and retract into the upper shoulder anchorage. The Agency agreed that the mini-buckle design reduces the possibility for misuse since the lap belt is not independently available for use. Some of the existing mini-buckles had pushbutton release mechanisms similar to release mechanisms used for non-detachable belts. To address any safety concerns with inadvertent release of the mini-buckle during use, the Agency decided to require a key-like object to release the mini-buckle from the seat, eliminating installation of detachable belt designs that incorporate pushbutton releases. Consistent with the Agency's intent to maximize correct use of the belt, no provision was added to require the use of a tool to reattach the belt.

The subject vehicles have fixed, non-folding rear seats with detachable 3-point belts installed at the center rear seat positions. As these center seats do not fold, the installation of this detachable belt constitutes a violation of S4.1.5.5.1 of FMVSS No. 208. The detachable 3-point belts have mini-buckles that allow the entire belt to detach from the seat at the lower anchorage point located on the left-side of the seating position. The mini-buckle can only be operated through inserting a key or key-like object in a rectangular slot on the female buckle at the lower left anchorage point. Other than the presence of the slot, the outward appearance of the buckle does not reveal that there is a mini-buckle hidden within the female buckle assembly allowing detachment. The likelihood that the mini-buckle could or would be used casually to remove the female buckle appears to be quite small. As the purpose of the slot would not be clear or the presence and operation of the mini-buckle is not obvious, removing the buckle assembly requires a degree of knowledge and intent likely to eliminate inadvertent detachment.

Hyundai's data indicate that the nominal force required to release the buckle using a key or key-like object ranged from 13 to 20N (2.9 to 4.5 lbf) with an average of 13.6N (3.1 lbf).¹ Additionally, this key or object must be 2.9 mm (0.11 in) in length to reach the release mechanism and be capable of applying the release force noted above for an additional 4.8 mm (0.19 in) to release the buckle. Therefore, any object serving as a tool to release the buckle must fit in the available opening, apply the required force and do so without yielding over the required distance. These conditions indicate that an inadvertent release, or an intentional release by a child, would be unlikely.

¹ See Hyundai's Supplemental Response dated February 13, 2020.

Hyundai represents that, like non-detachable belts, these detachable belts meet all FMVSS No. 208 and FMVSS No. 209 performance requirements. Thus, we agree that a detachable 3-point belt with mini-buckle can be expected to provide an equivalent level of protection to belted occupants as a non-detachable 3-point belt.

Because the rear seat is fixed, we agree with the petitioner that there is no advantage or reason for owners of subject vehicles to detach the belt. As noted above, the existence of the mini-buckle and the ability to detach the female buckle is not apparent from visual inspection. The purpose of the rectangular slot is explained in the owner's manual, which indicates that detaching the buckle requires insertion of a key-like object. Instructions in the owner's manual also indicate that no special tool is needed to reattach the belt. If for some reason the mini-buckle is detached, an occupant wishing to use the available safety belt upon entering the center rear seat of a subject vehicle can easily re-attach the mini-buckle to the lower anchorage by inserting “the tongue plate into the open end of the [mini] buckle until an audible click is heard.”

The Agency has received no complaints indicating that the subject vehicle's detachable belt inadvertently released during use. Additionally, the petitioner has stated that there are no known accidents or injuries related to the subject noncompliance. For these reasons, we find the petition has merit and should be granted.

VII. NHTSA's Decision

NHTSA finds that Hyundai has met its burden of persuasion that the FMVSS No. 208 noncompliance is inconsequential as it relates to motor vehicle safety. Accordingly, the petition is hereby granted and Hyundai is exempt from the obligation to provide notification of, and remedy for, the subject noncompliance in the affected vehicles under 49 U.S.C. 30018 and 30120.

This petition is granted solely on the Agency's decision that the noncompliance in the subject vehicles is inconsequential as it relates to motor vehicle safety. It is important that all other vehicles subject to these requirements continue to meet them.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to the subject vehicles that Hyundai no longer controlled at the time it determined that the noncompliance existed. However, the granting of this petition does not relieve vehicle distributors and dealers of the prohibitions on the sale, offer for sale, or introduction or delivery for introduction into interstate commerce of the noncompliant vehicles under their control after Hyundai notified them that the subject noncompliance existed.

(Authority: 49 U.S.C. 30118, 30120: delegations of authority at 49 CFR 1.95 and 501.8)

Otto G. Matheke III,
Director, Office of Vehicle Safety Compliance.

[FR Doc. 2020-14217 Filed 6-30-20; 8:45 am]

BILLING CODE 4910-59-P